DEPARTMENT OF HEALTH AND HUMAN SERVICES

Centers for Disease Control and Prevention

[60Day-07-07AI]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan F. Karr, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Medical Monitoring Project Provider Survey-New-National Center for HIV, STD, and TB Prevention (NCHSTP), Centers for Disease Control and Prevention (CDC).

Background and Brief Description

CDC is requesting a 3-year approval from the Office of Management and Budget (OMB) to survey randomly selected HIV care providers (e.g., physicians, nurse practitioners and physician's assistants) in the United States regarding their training history, areas of specialization, ongoing sources of training and continuing education about HIV care, and awareness of HIV treatment guidelines and resources. Results from this survey will be used in conjunction with data from CDC's Medical Monitoring Project (MMP) to assess who is providing HIV care, to examine the impact of provider characteristics on the quality and standard of care being provided to patients with HIV, to determine opportunities to improve resources available to HIV care providers, and to evaluate the reasons for sampled providers' participation and non-participation in MMP. Participation in the survey is not contingent upon a provider's involvement with the MMP.

All selected HIV care providers will be asked to participate in the survey, regardless of their participation in the MMP.

For this proposed data collection, MMP project areas have identified all HIV care providers in their jurisdictions and selected a sample of 40-60 providers in each jurisdiction to participate in MMP, including those providers who may not be participating in the MMP. CDC plans to survey these sampled providers. Respondents will have the option to use either a Web-based application or paper survey to participate in the survey. There is no cost to respondents to participate in this survey other than their time.

Estimated Annualized Burden Hours
Respondents | Number of respondents | Number of responses per respondent | Average burden per response (In hours) | Total burden (Hours)
HIV Care Providers | 2,500 | 1 | 30/60 | 1,250

Dated: January 11, 2007.
Joan F. Karr,
Acting Reports Clearance Officer, Centers for Disease Control and Prevention.

[FR Doc. E7-772 Filed 1-19-07; 8:45 am]

BILLING CODE 4163-18-P